FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010050-011.

Title: U.S. Flag Far East Discussion Agreement.

Parties: American President Lines, Ltd., A.P. Moller-Maersk Sealand.

Synopsis: The proposed agreement modification would add authority for the parties to discuss service contracts and establish voluntary guidelines for individual service contracts.

Agreement No.: 011817.

Title: CMA CGM/Trans Pacific Lines Space Charter Agreement.

Parties: CMA CGM, S.A., Trans Pacific Lines (TPL).

Synopsis: The agreement authorizes CMA CGM to charter space to TPL in the trade between U.S. West Coast ports and ports in the Far East. The parties request expedited review.

Agreement No.: 011818.

Title: HL/MSC Charter Agreement.

Parties: Mediterranean Shipping Company, S.A.(MSC), Hapag-Lloyd Container Linie GmbH.

Synopsis: The agreement authorizes MSC to charter space to Hapag-Lloyd in the trade between U.S. Atlantic Coast ports and ports in North Europe.

By Order of the Federal Maritime Commission.
Dated: August 23, 2002.
Bryant L. VanBrakle,
Secretary.

[FR Doc. 02-21949 Filed 8-27-02; 8:45 am]

BILLING CODE 6730-01-P